DEPARTMENT OF TRANSPORTATION

Federal Aviation Administration

14 CFR Part 39

[Docket No. FAA-2010-1277; Directorate Identifier 2010-NM-218-AD; Amendment 39-16722; AD 2009-18-19 R1]

RIN 2120-AA64

Airworthiness Directives; Airbus Model A330-200 and -300 Series Airplanes, and Model A340-200 and -300 Series Airplanes

AGENCY: Federal Aviation Administration (FAA), Department of Transportation (DOT).

ACTION: Final rule; rescission.

SUMMARY: This amendment rescinds airworthiness directive (AD) 2009-18-19 for the products listed above. This AD results from mandatory continuing airworthiness information (MCAI) issued by EASA, to rescind EASA AD 2010-0083. The MCAI specifies the following:

It has been assessed that multiple NRV [non-return valve] failures in combination with certain trapped fuel cases could potentially increase the quantity of unusable fuel on the aeroplane, possibly leading to fuel starvation which could result in engines in-flight shut down and would constitute an unsafe condition. To prevent and detect this condition, EASA issued EASA AD 2010-0083.

Based on in service experience, mainly on the results of the operational test required by EASA AD 2010-0083, Airbus has performed a safety analysis on the NRV to check if the safety objectives are met.

This analysis of the Collector Cell motive flow line NRV, taking into account all failure scenarios, concludes that the previous non compliance can be alleviated. Consequently, no unsafe condition exists any more on the affected NRV.

For the reasons described above, EASA AD 2010-0083 is cancelled.

This AD rescinds the parallel FAA AD 2009-18-19.

DATES: This AD becomes effective June 10, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 by rescinding an existing AD. That NPRM was published in the Federal Register on December 30, 2010 (75 FR 82325) and proposed to rescind AD 2009-18-19, Amendment 39-16016 (74 FR 46322, September 9, 2009). That AD was intended to address an unsafe condition on the products listed above.

Since we issued AD 2009-18-19, EASA issued Airworthiness Directive 2010-0083-CN, dated September 20, 2010, to cancel EASA AD 2010-0083, dated May 3, 2010, for the specified products. EASA AD 2010-0083-CN states:

It has been assessed that multiple NRV [non-return valve] failures in combination with certain trapped fuel cases could potentially increase the quantity of unusable fuel on the aeroplane, possibly leading to fuel starvation which could result in engines in-flight shut down and would constitute an unsafe condition. To prevent and detect this condition, EASA issued EASA AD 2010-0083.

Based on in service experience, mainly on the results of the operational test required by EASA AD 2010-0083, Airbus has performed a safety analysis on the NRV to check if the safety objectives are met.

This analysis of the Collector Cell motive flow line NRV, taking into account all failure scenarios, concludes that the previous non compliance can be alleviated. Consequently, no unsafe condition exists any more on the affected NRV.

For the reasons described above, EASA AD 2010-0083 is cancelled.

This AD rescinds the parallel FAA AD 2009-18-19. You may obtain further information by examining the MCAI in the AD docket.

Comments

We gave the public the opportunity to participate in developing this AD. We received no comments on the NPRM or on the determination of the cost to the public.

Conclusions

We reviewed the available data and determined that air safety and the public interest require the rescission of the AD as proposed.

Differences Between This AD and the MCAI or Service Information

We have reviewed the MCAI and, in general, agree with the substance. But we might have found it necessary to use different words from those in the MCAI to ensure the AD is clear for U.S. operators and is enforceable. In making these changes, we do not intend to differ substantively from the information provided in the MCAI.

Regulatory Findings

We determined that this AD would not have federalism implications under Executive Order 13132. This AD would not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Would not have a significant economic impact, positive or negative, on a substantial number of small entities under the criteria of the Regulatory Flexibility Act.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

The Rescission

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-16016 (74 FR 46322, September 9, 2009):

2009-18-19 R1 Airbus: Amendment 39-16722. Docket No. FAA-2010-1277; Directorate Identifier 2010-NM-218-AD.

Effective Date

(a) This rescission becomes effective June 10, 2011.

Affected ADs

(b) This AD rescinds AD 2009-18-19, Amendment 39-16016.

Applicability

(c) Airbus airplanes, certificated in any category, identified in paragraphs (c)(1) and (c)(2) of the AD.

(1) Airbus Model A330-201, -202, -203, -223, -243, -301, -302, -303, -321, -322, -323, -341, -342, and -343 series airplanes, all serial numbers.

(2) Airbus Model A340-211, -212, -213, -311, -312, and -313 series airplanes, all serial numbers.

Related Information

(d) Refer to MCAI European Aviation Safety Agency (EASA) Airworthiness Directive 2010-0083-CN, dated September 20, 2010, for related information.

Materials Incorporated by Reference

(e) None.

Issued in Renton, Washington, on June 1, 2011.
Kalene C. Yanamura,
Acting Manager, Transport Airplane Directorate, Aircraft Certification Service.

[FR Doc. 2011-14398 Filed 6-9-11; 8:45 am]

BILLING CODE 4910-13-P